DEPARTMENT OF DEFENSE

Department of the Air Force

Privacy Act of 1974; System of Records

AGENCY: Department of the Air Force, DoD.

ACTION: Notice to Add a Record System.

SUMMARY: The Department of the Air Force proposes to add a system of records notice to its inventory of records systems subject to the Privacy Act of 1974 (5 U.S.C. 552a), as amended.

DATES: The actions will be effective on September 7, 2001 unless comments are received that would result in a contrary determination.

ADDRESSES: Send comments to the Air Force Access Programs Manager, Headquarters, Air Force Communications and Information Center/INC, 1250 Air Force Pentagon, Washington, DC 20330-1250.

FOR FURTHER INFORMATION CONTACT: Mrs. Anne P. Rollins at (703) 588-6187.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on July 19, 2001, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 1, 2001.
L. M. Bynum,
Alternate OSD Federal Register Liaison Officer, Department of Defense.

F036 AF FM A

System name:

Leave Request and Approval System (LeaveWeb)

System location:

Base Financial Services Offices (FSO) at Air Force installations and units. Official mailing addresses are published as an appendix to the Air Force's compilation of systems of records notices.

Categories of individuals covered by the system:

All Air Force active duty personnel.

Categories of records in the system:

Name, Social Security Number, home address and phone, unit, leave address and emergency telephone number, leave days requested, leave days taken, leave balance, grade, and approving official's name.

Authority for maintenance of the system:

10 U.S.C. 8013, Secretary of the Air Force; implemented by Air Force Instruction 36-3003, Military Leave Program; and E.O. 9397 (SSN).

Purpose(s):

To document the request and authorization of military leave, and the administration of leave, to document the start and stop of such leave; record address and telephone number where the member may be contacted while on leave; and certify leave days chargeable to the member.

Routine uses of records maintained in the system including categories of users and the purpose of such uses:

In addition to those disclosures generally permitted under 5 U.S.C. 552a(b) of the Privacy Act, these records, or information contained therein, may specifically be disclosed outside the DoD as a routine use pursuant to 5 U.S.C. 552a(b)(3) as follows:

To the American Red Cross for emergency assistance to members or dependents and relatives in emergency conditions.

The DoD “Blanket Routine Uses” set forth at the beginning of the Air Force's compilation of systems of records notices apply to this system.

Policies and practices for storing, retrieving, accessing, retaining, and disposing of records in the system:

Storage:

Maintained on computer and computer output products.

Retrievability:

Retrieved by name and Social Security Number.

Safeguards:

Records are accessed by custodians of the record system and by person(s) responsible for servicing the record system in performance of their official duties who are properly authorized. When under direct physical control by authorized individuals, records will be electronically stored in computer storage devices protected by computer system software. Computer terminals are located in supervised areas with terminal access controlled by password or other user code systems.

Retention and disposal:

Disposition pending (until NARA disposition is approved, treat as permanent).

System manager(s) and address:

Chief, Programs and Analysis Division, Financial Management Directorate Headquarters Air Mobility Command, (HQ AMC/FMP), 402 Scott Drive, Unit 1K1, Scott Air Force Base, IL 62225-5300.

Notification procedure:

Individuals seeking to determine whether this system of records contains information on themselves should address inquiries to their unit administrator, or the base financial services office customer service desk.

Written requests must contain the full name, Social Security Number, signature of the requester and duty phone.

Record access procedures:

Individuals seeking to access records about themselves contained in this system should address written requests to their unit administrator, or the base financial services office customer service desk.

Written requests must contain the full name, Social Security Number, signature of the requester and duty phone.

Contesting records procedures:

The Air Force rules for accessing records, and for contesting contents and appealing initial agency determinations are published in Air Fore Instruction 37-132; 32 CFR part 806b; or may be obtained from the system manager.

Record source categories:

Records in this system are obtained from the Defense Joint Military Pay System and from the individual.

Exemptions claimed for the system:

None.

[FR Doc. 01-19820 Filed 8-7-01; 8:45 am]

BILLING CODE 5001-08-P